ENVIRONMENTAL PROTECTION AGENCY

[EPA-HQ-OECA-2022-0812; FRL-10933-01-OMS]

Agency Information Collection Activities; Submission to the Office of Management and Budget for Review and Approval; Comment Request; State Review Framework (Renewal)

AGENCY: Environmental Protection Agency (EPA).

ACTION: Notice.

SUMMARY: The Environmental Protection Agency (EPA) has submitted an information collection request (ICR), State Review Framework (EPA ICR Number 2185.08, OMB Control Number 2020-0031) to the Office of Management and Budget (OMB) for review and approval in accordance with the Paperwork Reduction Act. This is a proposed extension of the ICR, which is currently approved through April 30, 2023. Public comments were previously requested via the Federal Register on September 19, 2022, during a 60-day comment period. This notice allows for an additional 30 days for public comments.

DATES: Comments may be submitted on or before May 30, 2023.

ADDRESSES: Submit your comments, referencing Docket ID Number EPA-HQ-OECA-2020-0031, to EPA online using www.regulations.gov (our preferred method), or by email to docket.oeca@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Dave Hoffman, Office of Enforcement and Compliance Assurance, Office of Compliance, Environmental Protection Agency, 1200 Pennsylvania Ave. NW, Washington, DC 20460; telephone number: (202) 564-0725; email address: Hoffman.dave@epa.gov.

SUPPLEMENTARY INFORMATION: This is a proposed extension of the ICR, which is currently approved through April 30, 2023. An agency may not conduct or sponsor and a person is not required to respond to a collection of information unless it displays a currently valid OMB control number.

Public comments were previously requested via the Federal Register on September 19, 2022, during a 60-day comment period (87 FR 57193). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The State Review Framework is an oversight tool designed to assess state performance in enforcement and compliance assurance. The Framework's goal is to evaluate state performance by examining existing data to provide a consistent level of oversight and develop a uniform mechanism by which EPA Regions, working collaboratively with their states, can ensure state environmental agencies consistently implement the national compliance and enforcement program to meet agreed-upon goals. Furthermore, the Framework is designed to foster dialogue on enforcement and compliance performance between states to enhance relationships and increase feedback, which will in turn lead to consistent program management and improved environmental results. This request will allow OECA to review and collect information from state and local agency enforcement and compliance files, to support the State Review Framework implementation from FY 2024 to FY 2027. It will also allow EPA to make inquiries to assess the State Review Framework process, including consistency achieved among the EPA Regions and states, resources required to conduct reviews, and overall effectiveness of the program.

Form Numbers: None.

Respondents/affected entities: States and localities and territories.

Respondent's obligation to respond: mandatory (as part of program authorization under the Clean Water, Clean Air, Safe Drinking Water and Resource Conservation and Recovery Acts).

Estimated number of respondents: 213 (total).

Frequency of response: Once every 5 years.

Total estimated burden: 12,993 hours (per year). Burden is defined at 5 CFR 1320.03(b).

Total estimated cost: $937,030 (per year), includes $0 annualized capital or operation & maintenance costs.

Changes in the Estimates: There is an increase of 87 hours in the total estimated per-response burden compared with the ICR currently approved by OMB. This increase is due to the addition of the safe drinking water act enforcement review pilot, which was not captured in the previous ICR. This pilot is not formally part of the SRF, but the Agency believes this ICR is an appropriate forum to collect input, due to their similarities in workload and purpose. At the conclusion of the pilot, the agency will review the program and if necessary, revise this ICR. In addition, there is an increase in the number of respondents from 54 to 213 due to inclusion of all media (CAA, CWA, RCRA and SDWA) for 50 states and 4 territories. Previous ICR's for this collection included a single response for each state/territory, whereas this ICR utilized a different methodology to capture the burden more accurately.

Courtney Kerwin,
Director, Regulatory Support Division.

[FR Doc. 2023-08873 Filed 4-26-23; 8:45 am]

BILLING CODE 6560-50-P